DEPARTMENT OF LABOR

Employment and Training Administration

[TA-W-39,055]

Newport Steel Corporation, Newport, KY; Notice of Negative Determination Regarding Application for Reconsideration

By applications dated June 12, 2001, and June 17, 2001, the United Steelworkers of America, District 8, Local 1970 (USWA) and a former employee of the plant, requested administrative reconsideration of the Department's negative determination regarding eligibility to apply for Trade Adjustment Assistance (TAA), applicable to workers and former workers of the subject firm. The denial notice was signed May 8, 2001, and was published in the Federal Register on May 23, 2001 (66 FR 28553).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The denial of TAA for workers engaged in activities related to the production of steel pipe at Newport Steel Corporation, Newport, Kentucky, was based on the finding that the “contributed importantly” criterion of the group eligibility requirements of Section 222 of the Trade Act of 1974 was not met. Layoffs at the subject firm were related to outsourcing the raw material (steel coils) from domestic suppliers used to produce the steel pipe produced at the plant.

The USWA states that the subject firm was producing as much steel coil as possible for use in their pipe mill and only purchased steel coils from outside sources when supplies could not meet demand from the pipe mill. In 1999, Newport Steel installed a “super furnace” to boost production and lower costs. The USWA states that currently it costs less for the subject firm to purchase steel coils from outside vendors than to produce on-site. The USWA adds that the illegal dumping of steel caused the loss of over 200 jobs in the Newport, Kentucky plant. Also attached to the request for reconsideration were documents from the American Iron and Steel Institute, which included March 2001 trade data for steel mill products and a June 12, 2001, press release regarding April 2001 U.S. shipments of steel.

Review of the investigation record shows that during 1999, 2000, and in January through March 2001, Newport Steel Corporation, did not purchase from any foreign sources articles like or directly competitive with those produced at the Newport, Kentucky plant. Furthermore, as to steel dumping and aggregate steel mill products data, the Department of Labor's worker petition investigation is conducted with respect to articles like or directly competitive with those produced at the workers' firm, not on aggregate products company-wide or industry-wide that are not like or directly competitive with the product of the subject firm.

Conclusion

After review of the application and investigative findings, I conclude that there has been no error or misinterpretation of the law or of the facts which would justify reconsideration of the Department of Labor's prior decisions. Accordingly, the application is denied.

Signed at Washington, DC this 5th day of September 2001.
Edward A. Tomchick,
Director, Division of Trade Adjustment Assistance.

[FR Doc. 01-23529 Filed 9-20-01; 8:45 am]

BILLING CODE 4510-30-M